ENVIRONMENTAL PROTECTION AGENCY

[ER-FRL-6658-9]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167. An explanation of the ratings assigned to draft environmental impact statements (EISs) was published in the Federal Register dated April 2, 2004 (69 FR 17403).

Draft EISs

ERP No. D-AFS-E65071-FL Rating EC1, Ocala National Forest Access Designation Process, Roads and Trail Systems Development, Implementation, Lake, Marion, and Putnam Counties, FL.

Summary: While EPA supports the access designation process, it has environmental concerns that there are no commitments to either close, decommission, or monitor the remaining unclassified roads and trails to ensure that unregulated public travel will not continue.

ERP No. D-BIA-J02044-WY Rating EC1, Wind River Natural Gas Field Development Project, Construction, Drilling and Production Operation of Natural Gas Wells, Fremont County, WY.

Summary: EPA expressed concern regarding air quality and visual environmental impacts to Class 1 Airsheds, and recommended mitigation measures such as: Using electric drill rigs and new technology diesel engines; purchasing wind-generated electricity; and the Tribes should investigate and consider developing their own renewable electricity generation capability to power tribal related projects to reduce air emissions.

ERP No. D-BLM-J02043-CO Rating EO1, Northern San Juan Basin Coal Bed Methane Project, Proposed to Drill Approximately 300 Wells to Produce Natural Gas from Coal Beds on Federal, State and Private Owned Lands, Special-Use-Permit, Application for Permit to Drill and U.S. Army COE Section 404 Permit, LaPlata and Archulea Counties, CO.

Summary: EPA expressed environmental objections because of potential adverse impacts to human health from methane gas mitigation into home/businesses, impacts to drinking water wells and the potential of reduced visibility at Mesa Verde NP and Weminuche WA, and surface disturbing activities in an inventoried Roadless Area. EPA suggests the final EIS include additional mitigation measures for the employment of newer drilling technologies to reduce impacts.

Final EISs

ERP No. F-FHW-G40172-TX TX-121 Highway Construction, I-30 to Farm-to-Market 1187 (FM 1187), Funding, USCG Section 9 and US Army COE Section 10 and 404 Permits Issuance, Fort Worth, Tarrant County, TX.

Summary: EPA has no comments on the Final EIS. ERP No. F-FRC-L05227-00 Box Canyon Hydroelectric Project, (FERC Project No. 2042-013), New License Application for an existing 72-megawatt (Mw) Hydroelectric Project, Public Utility District (PUD) No. 1, Pend Oreille River, Pend Oreille County, WA and Bonner County, ID.

Summary: EPA continues to have concerns that studies and analyses needed to define project impacts and identify needed mitigation measures have been deferred until after issuance of a new license.

ERP No. F1-AFS-L61190-OR Mt. Ashland Ski Area Expansion, Site Specific Project, Maintenance and Enhancements of Environmental Resources, Implementation, Special Use Permit, Ashland Ranger District, Rogue River National Forest and Scott River Ranger District, Klamath National Forest, Jackson County, OR.

Summary: EPA supports the selection of Modified Alternative 2, which should mitigate sediment yield into streams.

Dated: December 20, 2004.
Robert W. Hargrove,
Director, NEPA Compliance Division, Office of Federal Activities.

[FR Doc. 04-28096 Filed 12-22-04; 8:45 am]

BILLING CODE 6560-50-P